DEPARTMENT OF AGRICULTURE

Natural Resources Conservation Service

Notice of Proposed Changes to Section IV of the Field Office Technical Guide (FOTG) of the Natural Resources Conservation Service in New Mexico

AGENCY: Natural Resources Conservation Service (NRCS) in New Mexico, Department of Agriculture.

ACTION: Notice of availability of proposed changes in Section IV of the FOTG of the NRCS in New Mexico for review and comment.

SUMMARY: It is the intention of NRCS in New Mexico to issue a series of new conservation practice standards in Section IV of the FOTG. These revised standards include: 595-Pest Management, 332-Contour Buffer Strips, and 382-Fence.

The NRCS New Mexico State Conservationist has chosen to revise and supplement the National Standards adapted to the State of New Mexico. These will be incorporated into Section IV of the New Mexico Field Office Technical Guide (FOTG). Some of these practices may be used in conservation systems that treat highly erodible land and wetlands. Copies of these standards are available from NRCS in Albuquerque, NM and are also available electronically on the NRCS New Mexico Internet Homepage at: http://www.nm.nrcs.usda.gov/techserv/sec4home.htm

SUPPLEMENTARY INFORMATION: Section 343 on the Federal Agriculture Improvement and Reform Act of 1996 states that revisions made after enactment of the law to NRCS State technical guides used to carry out highly erodible land and wetland provisions of the law shall be made available for public review and comment. For the next 30 days the NRCS will receive comments relative to these proposed changes. Following that period a determination will be made by the NRCS regarding disposition of those comments and a final determination of change will be made.

DATES: Comments will be received on or before May 21, 2001.

ADDRESSES: Inquire in writing to Mr. Rosendo Treviño, State Conservationist, NRCS, 6200 Jefferson NE, Suite 305, Albuquerque, New Mexico 87109.

Dated: April 2, 2001
Rosendo Treviño III,
State Conservationist, Albuquerque, New Mexico.

[FR Doc. 01-9804 Filed 4-19-01; 8:45 am]

BILLING CODE 3410-16-P